DEPARTMENT OF ENERGY

National Nuclear Security Administration

Draft Site-Wide Environmental Impact Statement for the Continued Operation of the Department of Energy/National Nuclear Security Administration Nevada National Security Site and Off-Site Locations in the State of Nevada

AGENCY: National Nuclear Security Administration, U.S. Department of Energy.

ACTION: Notice of availability and public hearings.

SUMMARY: The National Nuclear Security Administration (NNSA), a separately organized semi-autonomous agency within the U.S. Department of Energy (DOE), announces the availability of the Draft Site-Wide Environmental Impact Statement for the Continued Operation of the Department of Energy/National Nuclear Security Administration Nevada National Security Site and Off-Site Locations in the State of Nevada (Draft SWEIS, DOE/EIS-0426D) for public review, as well as the locations, dates and times for public hearings. The Draft SWEIS for the continued management and operation of the Nevada National Security Site (NNSS) (formerly known as the Nevada Test Site) and other NNSA-managed sites in Nevada, including the Remote Sensing Laboratory (RSL) on Nellis Air Force Base, the North Las Vegas Facility (NLVF), and the Tonopah Test Range (TTR) on the U.S. Air Force Nevada Test and Training Range, analyzes the potential environmental impacts for three alternatives: No Action Alternative, Expanded Operations Alternative and Reduced Operations Alternative. Each alternative comprises current and reasonably foreseeable activities at the NNSS and the three offsite locations.

The Council on Environmental Quality's (CEQ) National Environmental Policy Act (NEPA) implementing regulations allow an agency to identify its preferred alternative or alternatives, if one or more exists, in a draft EIS (40 CFR 1502.14[e]). NNSA has not currently identified a preferred alternative; however, a preferred alternative will be identified in the Final SWEIS.

The U.S. Air Force, U.S. Bureau of Land Management, and Nye County, Nevada, are cooperating agencies in the preparation of this Draft SWEIS. In addition, the Consolidated Group of Tribes and Organizations, which include representatives from 17 Tribes and organizations, participated in its preparation.

DATES: NNSA invites comments on the Draft SWEIS during the public comment period which ends October 27, 2011. NNSA will consider comments received after this date to the extent practicable as it prepares the Final SWEIS.

NNSA will hold five public hearings on the Draft SWEIS. Locations, dates and times are provided in the SUPPLEMENTARY INFORMATION portion of this notice under “Public Hearings and Invitation To Comment”.

ADDRESSES: The Draft SWEIS and its reference material are available for review on the NNSA/NSO Web site at: http://nnsa.energy.gov/nepa. Written comments on the Draft SWEIS should be submitted to Ms. Linda Cohn, SWEIS Document Manager, NNSS Nevada Site Office, U.S. Department of Energy, P.O. Box 98518, Las Vegas, Nevada 89193-8518. Comments may also be submitted by facsimile to 702-295-5300, by telephone at 1-877-781-6105 or on the Internet at http://www.nnsa.energy.gov/nepa. Please title correspondence “Draft SWEIS Comments.”

The Draft SWEIS and references are also available for review at the reading rooms listed in the SUPPLEMENTARY INFORMATION portion of this notice.

FOR FURTHER INFORMATION CONTACT: Requests for additional information on the Draft SWEIS, including requests for copies of the document, should be directed to Ms. Linda Cohn by contact methods shown above under ADDRESSES. Copies of the Draft SWEIS are also available for review at the locations listed under:

For general information regarding the DOE NEPA process, contact Ms. Carol M. Borgstrom, Director, Office of NEPA Policy and Compliance, GC-54, U.S. Department of Energy, 1000 Independence Ave., SW., Washington, DC 20585; by telephone at 202-586-4600 or leave a message at 1-800-472-2756; by electronic mail at askNEPA@hq.doe.gov; or by facsimile at 202-586-7031. Additional information regarding DOE NEPA activities is available on the Internet through the DOE NEPA Web site at http://nepa.energy.gov.

SUPPLEMENTARY INFORMATION:

Background

The NNSS has a long history of supporting national security objectives by conducting underground nuclear tests and other nuclear and nonnuclear activities. Since October 1992, there has been a moratorium on underground nuclear testing. Thus, the NNSA's primary missions at the NNSS are supporting nuclear stockpile reliability, maintaining readiness and the capability to conduct underground nuclear weapons tests, if so directed by the President; DOE waste management activities, including disposal of low-level and mixed low-level waste; environmental restoration activities; and providing a safe and secure environment for conducting research, development, and testing activities related to national security. Accordingly, the NNSA mission-associated programs in Nevada are (1) the National Security/Defense Mission, which includes the Stockpile Stewardship and Management, Nuclear Emergency Response, Nonproliferation and Counterterrorism, and Work for Others Programs; (2) the Environmental Management Mission, which includes the Waste Management and Environmental Restoration Programs; and (3) the Nondefense Mission, which includes the General Site Support and Infrastructure, Energy Conservation and Renewable Energy, and Other Research and Development Programs.

The NNSS occupies approximately 1,360 square miles of desert and mountain terrain in southern Nevada. About 6,500 square miles of the U.S. Air Force's Nevada Test and Training Range and the Fish and Wildlife's Desert National Wildlife Refuge surround the NNSS on the northern, western, and eastern sides. The NNSS is bordered on the south by federal land managed by the Bureau of Land Management. NNSS is a multi-disciplinary, multi-purpose facility primarily engaged in work that supports national security, homeland security initiatives, waste management, environmental restoration, and defense and nondefense research and development programs for DOE, NNSA, and other government entities. At the NNSS, activities are undertaken in one or more land use zones. The land use zones are used to manage activities at the NNSS and prevent interference among the various projects and activities.

RSL is located on 35 acres at Nellis Air Force Base in Las Vegas. Radiological emergency response, the Aerial Measuring System, radiological sensor development and testing, Secure Systems Technologies, nuclear nonproliferation capabilities, and information and communication technologies are supported at RSL.

NLVF, located on 78 acres in North Las Vegas, comprises 29 buildings that support ongoing NNSS missions. The Facility includes office buildings, a high bay, machine shop, laboratories, experimental facilities, and various other mission-support facilities.

The TTR consists of a 280-square-mile area on the Nevada Test and Training Range. NNSA operations at the TTR include flight-testing of gravity weapons (bombs), and research, development, and evaluation of nuclear weapons components and delivery systems.

DOE issued its previous site-wide NEPA analyses for the Department's activities in Nevada in 1996 (the Final Environmental Impact Statement for the Nevada Test Site and Off-Site Locations in the State of Nevada) (1996 NTS EIS, DOE/EIS-0243), and an associated Record of Decision (ROD) (61 FR 65551). In the ROD, DOE selected the Expanded Use Alternative for most activities, but decided to manage low-level radioactive waste and mixed low-level radioactive waste at levels described under the No Action Alternative, pending decisions resulting from DOE'S Final Waste Management Programmatic Environmental Impact Statement for Managing Treatment, Storage, and Disposal of Radioactive and Hazardous Waste (WM PEIS, DOE/EIS-0200). In the February 2000 WM PEIS ROD (65 FR 10061), DOE announced that the NNSS would be one of two regional sites to be used for disposal of low-level radioactive waste and mixed low-level radioactive waste. At the same time, DOE amended the 1996 NTS EIS ROD to select the Expanded Use Alternative for waste management activities at the NNSS.

In 2007, NNSA initiated a review of the 1996 NTS EIS and, in April 2008, issued the Draft Supplement Analysis for the Final Environmental Impact Statement for the Nevada Test Site and Off-Site Locations in the State of Nevada (DOE/EIS-0243-SA-03). Based on consideration of comments received on this draft supplement analysis, potential changes to the NNSS program work scope, and changes to the environmental baseline, NNSA decided to prepare this Draft SWEIS.

Alternatives

NNSA has prepared the Draft SWEIS in accordance with the NEPA, the CEQ regulations that implement the procedural provisions of NEPA (40 Code of Federal Regulations [CFR] Parts 1500-1508), and DOE's NEPA implementing procedures (10 CFR part 1021). In this Draft SWEIS, NNSA analyzes the potential environmental impacts of three alternatives: (1) No Action, (2) Expanded Operations, and (3) Reduced Operations.

No Action Alternative

The No Action Alternative is analyzed as a baseline for evaluating the two action alternatives. This alternative would continue implementation of the 1996 NTS EIS ROD (DOE/EIS-0243) and subsequent amendments (61 CFR 6551 and 65 FR 10061), as well as other decisions supported by separate NEPA analyses completed since issuance of the final 1996 NTS EIS, and reflects activity levels consistent with those seen since 1996.

Under the No Action Alternative, Stockpile Stewardship and Management Program activities would continue at NNSA facilities in Nevada under the conditions of the ongoing nuclear testing moratorium. These activities would include science-based stockpile stewardship tests, experiments, and projects to maintain the safety and reliability of the nation's nuclear weapons stockpile without underground nuclear testing.

In support of the Nuclear Emergency Response and Nonproliferation and Counterterrorism Programs, under the No Action Alternative, NNSA would continue to (1) provide support to the Nuclear Emergency Support Team, the Federal Radiological Monitoring and Assessment Center, the Accident Response Group, and the Radiological Assistance Program; (2) undertake Aerial Measuring System activities; (3) provide emergency responder training for emergencies involving weapons of mass destruction; (4) disposition improvised nuclear devices; (5) support NNSA's Emergency Communications Network; and (6) integrate existing activities and facilities to support national efforts to control the spread of weapons of mass destruction.

Under the No Action Alternative, the Work for Others Program hosted by NNSA would entail the shared use of certain facilities and areas, such as the Big Explosives Experimental Facility, Nonproliferation Test and Evaluation Complex, and the T-1 Training Area, by other agencies such as the Department of Defense, as well as the shared use of resources at the NNSS, RSL, NLVF, and the TTR. NNSA also would continue to host projects of other Federal agencies, such as the U.S. Departments of Defense and Homeland Security, as well as state and local government agencies and nongovernmental organizations.

As part of the Environmental Management Mission, Waste Management Program, the NNSS would continue accepting and disposing of wastes, such as low-level radioactive waste and mixed low-level radioactive waste. The Environmental Restoration Program would continue to ensure compliance with the Federal Facility Agreement and Consent Order to characterize, monitor, and, if necessary, remediate contaminated areas, facilities, soils, and groundwater that have sustained adverse environmental impacts.

The Nondefense Mission would continue to include those activities that are necessary to support mission-related programs, such as construction and maintenance of facilities, provision of supplies and services, and warehousing. Activities related to energy conservation and supply, including renewable energy and other research and development projects, also would continue to be conducted. For example, NNSA would continue to identify and implement energy conservation measures and projects related to energy efficiency, renewable energy, water, and transportation/fleet management. NNSA also would support development of a 240 megawatt commercial solar power facility and an associated transmission line in the southwest corner of the NNSS, if proposed by commercial entities.

Expanded Operations Alternative

The Expanded Operations Alternative includes the level of operations, capabilities and projects described under the No Action Alternative, plus additional proposed activities. These additional projects include modification and/or expansion of existing facilities and construction of new facilities. In addition, some ongoing activities would be conducted more frequently than under the No Action Alternative.

Under the Expanded Operations Alternative the annual number of stockpile stewardship tests and experiments and the yearly number of nuclear weapons that would be dispositioned would increase relative to the No Action Alternative. NNSA would construct new facilities to support enhanced training for the Office of Secure Transportation, enhance efforts to control the spread of weapons of mass destruction, advance counterterrorism training, and research and development. Although the pace of environmental restoration activities would remain unchanged from that of the No Action Alternative, NNSA would accelerate the pace and amount of low-level and mixed low-level radioactive waste that would be disposed of on the NNSS.

Under this alternative, there would be two changes to land use zones at the NNSS:

(1) The designated use of one operational area in the northeast portion of the NNSS would be changed from “Reserved” to “Research, Test, and Experiment,” and

(2) Approximately 36,900 acres within another operational area in the southwest portion of the NNSS would be designated as a Renewable Energy Zone (an expansion of the 4,100-acre area under the No Action Alternative). In the Renewable Energy Zone, NNSA would support development of several commercial solar power facilities with a maximum combined generating capacity of 1,000 megawatts. NNSA would construct a 5-megawatt photovoltaic solar power facility at the main NNSS support area and a geothermal energy demonstration project and research center.

Reduced Operations Alternative

The Reduced Operations Alternative includes all of the types of activities conducted at the NNSS and offsite locations since 1996. The activity level under the Reduced Operations Alternative would vary across programs, but for many programs the level of operations would be reduced. Furthermore, under the Reduced Operations Alternative, activities would cease in the northwestern portion of the NNSS with the exception of environmental restoration and monitoring, site security operations, military training and exercises, maintenance of Well 8, and critical communications and electrical transmission systems. Maintenance of roads on Pahute Mesa, Stockade Wash, and Buckboard Mesa would also be terminated, and operations at the Pahute Mesa Airstrip would be limited to those necessary to provide access for activities that would continue in these areas. A portion of the electrical transmission and distribution system would be de-energized.

The pace of environmental restoration activities and most waste generation and disposal rates would remain unchanged from those of the No Action Alternative. However, the amount of transuranic waste generated, and the amount of sanitary solid waste generated and disposed of onsite would be reduced.

Under the Reduced Operations Alternative, activities related to supply and conservation of energy, including renewable energy and other research and development projects, would continue to be conducted, but at a reduced scale compared to other alternatives. For example, NNSA would support development of a 100-megawatt commercial solar power facility. In the northwest portion of the NNSS land use designations would change to a Limited Operations Zone.

Public Hearings and Invitation to Comment

NNSA will hold five public meetings/hearings at the following locations, dates and times:

• Las Vegas, Nevada, September 20, 2011 from 5-8 p.m. at Cashman Center, 850 Las Vegas Boulevard North, Las Vegas, NV.

• Pahrump, Nevada, September 21, 2011 from 5-8 p.m. at The Nugget Hotel, 681 Highway 160, Pahrump, NV.

• St. George, Utah, September 22, 2011 from 5-8 p.m. at Courtyard By Marriott, 185 South 1470 East, St. George, UT.

• Tonopah, Nevada, September 27, 2011 from 5-8 p.m. at Tonopah Convention Center, 301 Brougher Ave., Tonopah, NV.

• Carson City, NV, September 28, 2011, 5-8 p.m., at the Carson Nugget, 800 North Carson Street, Carson City, NV.

The public hearings will begin with an open-house format with subject matter experts from NNSA available to answer questions on the NNSA programs and the Draft SWEIS. The public hearing portion of the meeting will run from 6:30 p.m. through 8 p.m. Individuals who wish to speak may sign up at the door. Members of the public are invited to attend the hearings at their convenience any time during hearing hours and submit their comments in writing, or in person to a court reporter. Written comments on the Draft SWEIS also may be submitted to the address shown above under ADDRESSES, by facsimile to 702-295-5300, by telephone at 1-877-781-6105 or on the Internet at http://nnsa.energy.gov.

The Draft SWEIS and its reference material are available for review on the NNSA/NSO Web site at: http://nnsa.energy.gov and at the following reading rooms:

Amargosa Valley Library, 829 East Farm Road, Amargosa, Nevada 89020, Phone: (775) 372-5340.

Beatty Library District, 400 North Fourth Street, Beatty, Nevada 89003, Phone: (775) 553-2257.

Clark County Library, 1401 East Flamingo Road, Las Vegas, Nevada 89119, Phone: (702) 507-3400.

Green Valley Library, 2797 North Green Valley Parkway, Henderson, Nevada 89014, Phone: (702) 507-3790.

Indian Springs Library, 715 Gretta Lane, Indian Springs, Nevada 89018, Phone: (702) 879-3845.

Kingman Public Library, 3269 North Burbank Street, Kingman, Arizona, 86402, Phone: (928) 692-2665.

Las Vegas Library, 833 North Las Vegas Boulevard, Las Vegas, Nevada 89101, Phone: (702) 507-3500.

Lincoln County Library, 93 Main Street, Pioche, Nevada 89043, Phone: (775) 962-5244.

Nevada State Library and Archives, 100 Stewart Street, Carson City, Nevada 89701, Phone: (775) 684-3360.

North Las Vegas Library, Main Branch, 2300 Civic Center Drive, North Las Vegas, Nevada 89030, Phone: (702) 633-1070.

Pahrump Community Library, 701 South East Street, Pahrump, Nevada 89048, Phone: (775) 727-5930.

Atomic Testing Museum, Public Reading Room for the Nuclear Testing Archive, 755C East Flamingo, Las Vegas, Nevada 89119, Phone: (702) 794-5161.

Rainbow Library, 3150 North Buffalo Drive, Las Vegas, Nevada 89128, Phone: (702) 507-3710.

Reno-Downtown Library, 301 South Center Street, Reno, Nevada 89501, Phone: (775) 785-4522.

St. George Library, 88 West 100 South, St. George, Utah 84770, Phone: (435) 634-5737.

Summerlin Library, 1771 Inner Circle Drive, Las Vegas, Nevada 89134, Phone: (702) 507-3860.

Tonopah Library, 167 Central Street, Tonopah, Nevada 89049, Phone: (775) 482-3374.

University of Nevada Las Vegas Lied Library, 4505 Maryland Parkway, Las Vegas, Nevada 89154, Phone: (702) 895-2100.

Following the end of the public comment period on the Draft SWEIS described above, the NNSA will consider and respond to comments received during the comment period in the Final Site-Wide Environmental Impact Statement for the Continued Operation of the Department of Energy/National Nuclear Security Administration Nevada National Security Site and Off-Site Locations in the State of Nevada. NNSA decision-makers will consider the environmental impact analysis presented in the Final document as well as public comments and other information, in making decisions related to the Final SWEIS.

Signed in Washington, DC, on July 20, 2011.
Thomas P. D'Agostino,
Administrator, National Nuclear Security Administration.

[FR Doc. 2011-18847 Filed 7-28-11; 8:45 am]

BILLING CODE 6450-01-P